DEPARTMENT OF JUSTICE

Notice of Lodging of Proposed Third Modification to Consent Decree Under the Clean Air Act

On February 22, 2013, the Department of Justice lodged a proposed third modification to a consent decree with the United States District Court for the Southern District of Ohio in the lawsuit entitled United States, et al. v. American Electric Power Service Corp., et al., Civil Action Nos. 99-1182 (EAS) and 99-1250 (EAS).

Under a 2007 consent decree, American Electric Power Service Corp., et al. (“AEP”) agreed to substantially reduce sulfur dioxide (SO2) and nitrogen oxides (NOX) from the AEP Eastern System which was then comprised of sixteen coal-fired power plants. The original consent decree requires AEP to install flue gas desulfurization (FGD) technology on Rockport Unit 1 by December 31, 2017 and on Rockport Unit 2 by December 31, 2019.

Under the third modification that was lodged on February 22, 2013, in exchange for providing AEP an extension of time for the installation of FGD technology on Units 1 and 2 at the Rockport Plant, AEP agrees to the following: (1) To install interim emission controls that will begin to reduce SO2 emissions from the Rockport Plant earlier than required under the original Consent Decree; (2) to accept a declining annual tonnage limitation for SO2 for the Rockport Plant; (3) to substantial reductions in the System-Wide SO2 emission cap provided for in the original consent decree; (4) to shutdown, repower or control three units (Big Sandy Unit 2, Muskingum River 5 and Tanners Creek Unit 4); (5) to the installation of 200 MW of renewable energy; (6) to provide the State Co-Plaintiffs with $6 million in additional mitigation funding; and (7) to provide the Citizen Plaintiffs with $2.5 million in mitigation funding for Indiana specific projects.

The publication of this notice opens a period of public comment on the third modification. Comments should be addressed to the Assistant Attorney General, Environment and Natural Resources Division, and should refer to United States, et al. v. American Electric Power Services Corp., D. J. Ref. No. 90-5-2-1-06893. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the third modification may be examined and downloaded at this Department of Justice Web site: http://www.usdoj.gov/enrd/Consent_Decrees.html. We will provide a paper copy of the third modification upon written request and payment of reproduction costs. Please mail your request and payment to: Consent Decree Library, U.S. DOJ—ENRD, P.O. Box 7611, Washington, DC 20044-7611.

Please enclose a check in the amount of $7.50 (25 cents per page reproduction cost) payable to the United States Treasury.

Maureen Katz,
Assistant Section Chief, Environmental Enforcement Section, Environment and Natural Resources Division.

[FR Doc. 2013-05601 Filed 3-11-13; 8:45 am]

BILLING CODE 4410-15-P